DEPARTMENT OF AGRICULTURE

Forest Service

Directive Publication Notice

AGENCY: Forest Service, Agriculture (USDA).

ACTION: Notice.

SUMMARY: The Forest Service, U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months and notice of final directives issued in the last three months.

DATES: This notice identifies proposed and interim directives that will be published for public comment between January 1, 2023, and March 31, 2023; proposed and interim directives that were previously published for public comment but not yet finalized and issued; and final directives that have been issued since October 1, 2022.

ADDRESSES: Questions or comments may be submitted by email to the contact listed below.

FOR FURTHER INFORMATION CONTACT: Jolynn Anderson, 971-313-1718 or jolynn.anderson@usda.gov. Individuals who use telecommunications devices for the hard of hearing may call the Federal Relay Service at 800-877-8339, 24 hours a day, every day of the year, including holidays. You may register to receive email alerts regarding Forest Service directives at https://www.fs.usda.gov/about-agency/regulations-policies.

SUPPLEMENTARY INFORMATION:

Proposed and Interim Directives

Consistent with 16 U.S.C. 1612(a) and 36 CFR part 216, the Forest Service publishes for public comment Agency directives that formulate standards, criteria, and guidelines applicable to Forest Service programs. Agency procedures for providing public notice and opportunity to comment are specified in Forest Service Handbook (FSH) 1109.12, Chapter 30, Providing Public Notice and Opportunity to Comment on Directives.

The following proposed directives are planned for publication for public comment from January 1, 2023, to March 31, 2023:

1. Forest Service Handbook (FSH) 2709.14, Recreation Special Uses Handbook, Chapter 40—Federally Owned Improvements and Chapter 80—Recreation and Other Temporary Events.

2. Forest Service Manual (FSM) 2340—Privately Provided Recreation Opportunities.

Previously Published Directives That Have Not Been Finalized

The following proposed and interim directives have been published for public comment but have not yet been finalized:

1. FSM 2200, Rangeland Management, Chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and FSH 2209.16, Allotment Management Handbook, Chapter 10, Allotment Management and Administration.

2. FSM 3800, Landscape Scale Restoration Program.

3. FSH 2409.12, Timber Cruising Handbook, Chapters 30, Cruising Systems; 40, Cruise Planning, Data Recording, and Cruise Reporting; 60, Quality Control; and 70, Designating Timber for Cutting.

4. FSH 2409.15, Timber Sale Administration Handbook, Chapters 20, Measuring and Accounting for Included Timber; 40, Rates and Payments; and 60, Operations and Other Provisions.

Final Directives That Have Been Issued Since October 1, 2022

No proposed or interim directives that were previously published for public comment have been issued since October 1, 2022.

Stephen E. Morse,
Acting Branch Chief, Directives and Regulations, National Forest System.

[FR Doc. 2022-28431 Filed 12-29-22; 8:45 am]

BILLING CODE 3411-15-P